DEPARTMENT OF ENERGY

Federal Energy Regulatory Commission

[Project No. 3052-003 -Wisconsin]

City of Black River Falls, WI; Notice of Availability of Envrionmental Assessment

January 23, 2002.

In accordance with the National Environmental Policy Act of 1969 and the Federal Energy Regulatory Commission's (Commission's) regulations, 18 CFR part 380 (Order No. 486, 52 FR 47897), the Office of Energy Projects has reviewed the application for a subsequent minor license for the Black River Falls Project located on the Black River, in Jackson County, Wisconsin, and has prepared an Environmental Assessment (EA) for the project. In the EA, the Commission's staff has analyzed the potential environmental effects of the project and has concluded that approval of the project, with appropriate environmental measures, would not constitute a major federal action significantly affecting the quality of the human environment.

A copy of the EA is on file with the Commission and is available for public inspection. The EA may also be viewed on the Web at http://www.ferc.gov using the “RIMS” link—select “Docket #” and follow the instructions (call 202-208-2222 for assistance).

Any comments should be filed within 30 days from the date of this notice and should be addressed to the Secretary, Federal Energy Regulatory Commission, 888 First Street, NE., Room 1-A, Washington, DC 20426. Please affix “Black River Falls Project No. 3052” to all comments. Comments may be filed electronically via the Internet in lieu of paper. See 18 CFR 385.2001(a)(1)(iii) and the instructions on the Commission's Web site under the “e-Filing” link. For further information, contact Susan O'Brien at (202) 219-2840.

Linwood A. Watson, Jr.,
Acting Secretary.

[FR Doc. 02-2100 Filed 1-28-02; 8:45 am]

BILLING CODE 6717-01-P